POSTAL SERVICE

Privacy Act of 1974; System of Records

AGENCY: Postal Service.

ACTION: Notice of new systems of records.

SUMMARY: The United States Postal Service® (USPS®) is proposing to create a new General Privacy Act System of Records (SOR) to support an initiative that will enhance the mental health, resilience, and operational performance of personnel within the U.S. Postal Inspection Service (USPIS) by implementing a structured Peer Support Program.

DATES: These revisions will become effective without further notice on March 23, 2026, unless comments received before that date result in a contrary determination.

ADDRESSES: Comments may be submitted via email to the Privacy and Records Management Office, United States Postal Service Headquarters at USPSPrivacyFedRegNotice@usps.gov. To facilitate public inspection, arrangements to view copies of any written comments received will be made upon request.

FOR FURTHER INFORMATION CONTACT: Janine Castorina, Chief Privacy and Records Management Officer, Privacy and Records Management Office, 202-268-2000 or USPSPrivacyFedRegNotice@usps.gov.

SUPPLEMENTARY INFORMATION: This notice is in accordance with the Privacy Act requirement that agencies publish their systems of records in the Federal Register when there is a revision, change, or addition, or when the agency establishes a new system of records. The Postal Service has determined that the creation of a new USPS Privacy system of records is necessary.

USPIS personnel operate in demanding and stressful environments—investigating crimes, managing threats, and encountering traumatic events. Although the USPS Employee Assistance Program (EAPs) provides professional resources, a more specialized level of support is needed due to the unique challenges faced by law enforcement personnel, inherent stigma, lack of trust, and limited law enforcement cultural competency. The USPIS Peer Support Program will address these gaps by offering informal, confidential, and relatable support from trained colleagues who understand the unique pressures of the job.

I. Background

As a third-party application the USPIS Peer Support Program will provide an opportunity for law enforcement officers and professional staff who feel a need to communicate their feelings about their jobs, their home life, or a combination of the two in a secure and trusted environment that protects confidentiality. Eligible USPIS personnel may voluntarily participate in the peer support program with other officers that are trained to assist. The peer support program is appropriately structured and uses volunteer peer counselors that are formally trained by mental health professionals in topical areas such as counseling skills, crisis theory and intervention, early warning signs of prolonged or acute stress, suicide assessment, alcohol and substance abuse, and other matters that require confidentiality. The USPIS Peer Support Program will identify, train, and deploy selected employees as volunteer peer supporters to provide confidential, non-clinical emotional support and resource navigation. This program will be integrated with existing wellness initiatives and aligned with agency policies and federal best practices. Communication and program management will be accessed through a peer support management software that will facilitate enrollment and scheduling.

All peer support program sessions are confidential and are not shared outside of the one-on-one discussions between individual participants and peer counselors.

II. Rationale for Creation of a New USPS Privacy Act Systems of Records

The Peer Support Program will provide USPIS personnel with vital tools for coping with occupational stress, fostering a supportive culture, and maintaining mission-critical performance. The investment in mental well-being will yield long-term returns in workforce stability, safety, and effectiveness.

Key Features

Selection & Training: Voluntary peer supporters will undergo comprehensive training in active listening, confidentiality, crisis response, and referral protocols.

Confidentiality: Interactions will be confidential to the fullest extent permitted by law, ensuring trust and psychological safety.

Accessibility: Supporters will be available across all divisions and shifts, ensuring broad access and support during and after critical incidents.

Integration: Coordination with Employee Assistance Programs (EAP) and mental health professionals to ensure a continuum of care.

Evaluation: Ongoing program assessment and data-driven improvements will be embedded from the outset.

Expected Benefits or Outcome:

Enhanced emotional resilience and early intervention for stress and trauma

Reduced stigma around seeking help for mental health concerns

Increased employee morale, retention, and productivity

Improved readiness and capacity to respond to high-risk incidents

III. Description of the New or Modified System of Records

Pursuant to 5 U.S.C. 552a(e)(11), interested persons are invited to submit written data, views, arguments or comments on this proposal. A report of the proposed new SOR has been sent to Congress and to the Office of Management and Budget (OMB) for their evaluation. The Postal Service does not expect this new system of records to have any adverse effect on individual privacy rights. The new SOR is provided below in its entirety.

SYSTEM NAME AND NUMBER:

700.050 United States Postal Inspection Service (USPIS) Peer Support Program

SECURITY CLASSIFICATION:

None.

SYSTEM LOCATION:

USPS Headquarters, Supplier cloud computing environment.

SYSTEM MANAGER(S):

Chief Postal Inspector, Inspection Service, United States Postal Service, 475 L'Enfant Plaza SW, Washington, DC 20260.

AUTHORITY FOR MAINTENANCE OF THE SYSTEM:

39 U.S.C. 401, 403, 404, and 39 U.S.C. 406.

PURPOSE(S) OF THE SYSTEM:

1. To administer the USPIS Peer Support Program.

2. To facilitate enrollment and scheduling in the USPIS Peer Support Program. Produce aggregate reports for activity frequency, feedback, administrative usage rates and participation rates by volunteers and users.

CATEGORIES OF INDIVIDUALS COVERED BY THE SYSTEM:

Eligible U.S. Postal Inspectors, Postal Police Officers, and USPIS employees, selected contractors, and professional staff.

CATEGORIES OF RECORDS IN THE SYSTEM:

1. Participant. Peer Counselor, and Administrator information: Name, user ID, user display name, user email address, user location, phone number, SMS text, user preferred contact method, user biography, user profile image (avatar), and employee ID.

2. Program information: Session ID, user agent, IP address, mobile push notification token, organization location, user request, groups, regions, agencies, states, and languages.

RECORD SOURCE CATEGORIES:

Volunteer participant's contact information and agreement to participate.

Eligible USPIS personnel and volunteer peer counselors.

ROUTINE USES OF RECORDS MAINTAINED IN THE SYSTEM, INCLUDING CATEGORIES OF USERS AND PURPOSES OF SUCH USES:

Standard routine uses 1. through 9.

POLICIES AND PRACTICES FOR STORAGE OF RECORDS:

Automated database, computer storage media, digital files, and paper files.

POLICIES AND PRACTICES FOR RETRIEVAL OF RECORDS:

Records are retrievable by personal identifiers including first and last name, user display name, email address, and phone number, volunteer metrics and aggregate use.

POLICIES AND PRACTICES FOR RETENTION AND DISPOSAL OF RECORDS:

1. Records of voluntary participants, as well as administrative and scheduling records are maintained while participants are actively enrolled in the program.

ADMINISTRATIVE, TECHNICAL, AND PHYSICAL SAFEGUARDS:

Paper records, computers, and computer storage media are located in controlled-access areas under supervision of program personnel. Access to the facility is limited to authorized personnel, who must be identified with a badge. The facility is not open to the public. Access to records is limited to individuals whose official duties require such access.

Contractors and licensees are subject to contract controls and unannounced on-site audits and inspections. Computers are protected by mechanical locks, card key systems, or other physical access control methods.

The use of computer systems is regulated with installed security software, computer logon identifications, and operating system controls including access controls, terminal and transaction logging, and file management software. Access is controlled by logon ID and password. Online data transmissions are protected by encryption.

RECORD ACCESS PROCEDURES:

Requests for access must be made in accordance with the Notification Procedure above and USPS Privacy Act regulations regarding access to records and verification of identity under 39 CFR 266.5.

CONTESTING RECORD ACCESS PROCEDURES:

See Notification Procedure and Record Access Procedures.

NOTIFICATION PROCEDURES:

Individuals wanting to know if information about them is maintained in this system of records must address inquiries to the system manager in writing. Inquiries should include name, address, email address and other identifying information that confirms the requestor's identity.

EXEMPTIONS PROMULGATED FOR THE SYSTEM:

None.

HISTORY:

None.

Colleen Hibbert-Kapler,
Attorney, Ethics and Legal Compliance.

[FR Doc. 2026-03217 Filed 2-18-26; 8:45 am]

BILLING CODE 7710-12-P